FEDERAL COMMUNICATIONS COMMISSION

FCC to Hold Open Commission Meeting Thursday, June 17, 2010

DATES: June 10, 2010.

The Federal Communications Commission will hold an Open Meeting on the subject listed below on Thursday, June 17, 2010, which is scheduled to commence at 10:30 a.m. in Room TW-C305, at 445 12th Street, S.W., Washington, D.C.

In accordance with the purpose of the Sunshine period, comments submitted on blog pages in broadband.gov during the Sunshine period will not be considered by the Commission in finalizing the item under consideration at the open meeting on June 17.

| BUREAU | SUBJECT
| OFFICE OF THE GENERAL COUNSEL | TITLE: Framework for Broadband Internet Service SUMMARY: The Commission will consider a Notice of Inquiry to begin an open, public process to consider possible legal frameworks for broadband Internet services in order to promote innovation and investment, protect and empower consumers, and bring the benefits of broadband to all Americans.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov <mailto:fcc504@fcc.gov> or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live <http://www.fcc.gov/live>.

For a fee this meeting can be viewed live over George Mason University's Capitol Connection. The Capitol Connection also will carry the meeting live via the Internet. To purchase these services call (703) 993-3100 or go to www.capitolconnection.gmu.edu <http://www.capitolconnection.gmu.edu/>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary,
Office of the Secretary,
Office of Managing Director.

[FR Doc. 2010-14785 Filed 6-15-10; 4:15 pm]

BILLING CODE 6712-01-S